DELAWARE RIVER BASIN COMMISSION

Notice of Commission Meeting and Public Hearing

Notice is hereby given that the Delaware River Basin Commission will hold an informal conference followed by a public hearing on Tuesday, December 12, 2006. The hearing will be part of the Commission's regular business meeting. Both the conference session and business meeting are open to the public and will be held at the Commission's office building, located at 25 State Police Drive in West Trenton, New Jersey.

The conference among the commissioners and staff will begin at 10:15 a.m. Topics of discussion include a report on progress to date of the Flood Mitigation Task Force, the planned release of task force recommendations, and the process by which public comment will be solicited on these recommendations; a report on the status of development of a long-term multi-objective management plan for the New York City Delaware Basin reservoirs; a presentation on the draft State of the Basin Report; a status report on the process for establishing a Total Maximum Daily Load (TMDL) for PCBs for the Delaware Bay; and a discussion of the Federal Coordination Summit held in July 2006 and subsequent inter-agency coordination efforts.

The subjects of the public hearing to be held during the 1:30 p.m. business meeting include the dockets listed below:

1. Matamoras Municipal Authority D-81-76 CP-6. An application to expand the existing service area to include property within Westfall Township north and south of Mountain Avenue. The applicant requests to retain the existing allocation of 11.7 million gallons per thirty days (mg/30 days) from existing Wells Nos. 3, 5, 7, 8 and 8A. The project is located in Matamoras Borough and Westfall Township, Pike County, Pennsylvania within the drainage area to a section of the non-tidal Delaware River known as the Middle Delaware, which is classified as Special Protection Waters.

2. Joseph Jackewicz, Sr. D-91-53-2. An application for the renewal of a ground and surface water withdrawal project to continue withdrawal of 219.8 mg/30 days to supply the applicant's agricultural irrigation system from replacement Well No. Townsend 3, eight existing wells and one existing surface water intake. The project is located in the Tidbury Creek, Cypress Branch and Double Run watersheds in the Town of Magnolia, Kent County, Delaware.

3. Magnesium Elektron, Inc. D-94-73-2. An application for approval of a ground water withdrawal project to supply up to 9.8 mg/30 days of water to the applicant's industrial facility and ground water remediation project from new Well No. 9 and to retain the existing withdrawal from all wells of 9.8 mg/30 days. The project is located in the Lockatong Formation in the Wickechoeke Creek Watershed in Kingwood Township, Hunterdon County, New Jersey and within the drainage area to the section of the non-tidal Delaware River known as the Lower Delaware, which is classified as Special Protection Waters.

4. Horsehead Corporation D-67-196-2. An application for a change of ownership and a docket modification for the discharge of non-contact cooling water, boiler blow-down, and effluent from metal recovery zones (MRZs) for the Palmerton East Plant. The discharges consists of approximately 0.15 million gallons per day (mgd) of non-contact cooling water from Outfall 004, 0.31 mgd of non-contact cooling water and boiler blow-down from Outfall 005, a 0.128 mgd MRZ discharge from Outfall 015, a 0.036 mgd MRZ discharge from Outfall 019 and a 0.040 mgd MRZ related discharge from Outfall 022. The discharges from Outfall Nos. 004, 005, 015, 019 and 022 are to the Aquashicola Creek, which is a tributary to the Lehigh River. The discharges are located in the drainage area of the Lower Delaware Special Protection Water Area. The facility is located in Palmerton Borough, Carbon County, Pennsylvania.

5. Cabot Corporation D-70-72-3. An application for approval to modify planned improvements to the applicant's industrial wastewater treatment plant (IWTP) upgrade project, approved by the Commission on October 24, 2004, and to implement manufacturing operation improvements necessary to meet water quality objectives in Swamp Creek. The applicant produces inorganic chemicals and primary nonferrous metals and alloys at its Boyertown Facility, which is located off Swamp Creek Road and straddles the borders of Douglass Township, Montgomery County and Colebrookdale Township, Berks County, both in Pennsylvania. Based upon revised production rate projections, the applicant has determined that modification of the existing IWTP would be more cost effective than constructing new facilities. In addition, the average design flow is proposed to be reduced to 0.15 mgd from the previously approved 0.222 mgd. The plant effluent, along with storm water, cooling water and water supply treatment wastewater, will continue to be discharged via the existing outfall to Swamp Creek in the Schuylkill River Watershed. The project is located within the Southeastern Pennsylvania Ground Water Protected Area, within the drainage area of a portion of the Schuylkill River that is conditionally designated as “Modified Recreational” in DRBC's Comprehensive Plan.

6. Village of Deposit D-74-57 CP-2. An application for approval of a wastewater treatment plant (WWTP) expansion project to provide secondary treatment to up to 0.7 mgd, a proposed increase of 0.1 mgd from the existing capacity. The WWTP discharges effluent to the West Branch Delaware River in DRBC Water Quality Zone W1. The project is located in the Upper Delaware Special Protection Waters drainage area in the Village of Deposit, Broome and Delaware Counties, New York. The WWTP will continue to serve the Village of Deposit and may serve the Town of Deposit, Delaware County, New York in the future.

7. Glenn Springs Holdings, Inc. D-76-17-2. An application to discharge treated storm and ground water into the Schuylkill River in an area that is conditionally designated as “Modified Recreational” in the Comprehensive Plan. The project is located south of State Route 422 at the former Occidental Chemical Corporation facility in Lower Pottsgrove Township, Montgomery County, Pennsylvania. Occidental Chemical Corporation remains the owner of the property, but its affiliate, Glenn Springs Holdings, Inc. is the operator of the ground and storm water treatment facility. Currently, up to 0.5 mgd of flow containing volatile organic chemicals is treated by carbon absorption and air stripping before it is discharged to the Pottstown City Sewage Treatment Plant. Approval is requested to discharge the treated effluent directly to the Schuylkill River through storm water Outfall 005, as a cost-savings measure. No increase in capacity is proposed, nor are any new production or recovery wells necessary. The industrial waste treatment plant and surface water supply intake described in DRBC Docket No. D-76-17 will remain inactive. The production (water supply) wells that were referenced in that docket will remain in use as recovery wells. The combined allocation for Recovery Wells Nos. 1, 1R, 4, 5, 6, 8, 8A, 9, 9A, 10A, A, B and C will be a total of 15 mg/30 days. The wells are located in the Brunswick Formation within the Southeastern Pennsylvania Ground Water Protected Area.

8. Borough of Alburtis D-91-42 CP-3. An application to replace the withdrawal of water from Well No. 3 in the applicant's water supply system with a withdrawal from Well No. 3A, because Well No. 3 has become an unreliable source of supply. The applicant requests that the withdrawal from replacement Well No. 3A be limited to 7.5 mg/30 days of water, and that the total withdrawal from all wells be increased to 11.487 mg/30 days from the previous allocation of 6.5 mg/30 days in order to meet projected increases in service area demand. The project is located in the Leithsville and Hornblende Gneiss formations in the Swabia Creek Watershed in Alburtis Borough, Lehigh County, Pennsylvania.

9. New Hanover Township Authority D-99-40 CP-2. An application for approval of the expansion of the New Hanover Township Authority's WWTP from 0.825 mgd to 1.925 mgd. The WWTP will continue to discharge to Swamp Creek, a tributary of the Perkiomen Creek, which is tributary to the Schuylkill River. The facility is located in New Hanover Township, Montgomery County, Pennsylvania.

10. The Upper Hanover Authority D-2002-10 CP-2. An application for the renewal of a ground water withdrawal project to increase the total system withdrawal from 32.12 mg/30 days to 43.113 mg/30 days to supply the applicant's public water supply distribution system from existing Wells Nos. RH-1, RH-2, RH-3, TUHA-1, TUHA-2, TUHA-3, TUHA-4 and Kemmerer Spring in the Brunswick and Leithsville Formations. The increased allocation is requested in order to meet projected increases in service area demand. The project is located in the Perkiomen and Macoby Creek Watersheds in Upper Hanover Township, Montgomery County, Pennsylvania and within the Southeastern Pennsylvania Ground Water Protected Area.

11. Middle Smithfield Township Municipal Authority D-73-209 CP-1. An application for the expansion and reconstruction of the existing Winona Lakes WWTP from 0.022 mgd to 0.050 mgd. The project includes the construction of a new 50,000 gallons per day (gpd) phased isolation ditch wastewater treatment facility to replace the existing 22,000 gpd extended aeration wastewater treatment facility. The expansion of the plant is to accommodate expected wastewater flows from Sections 12, 13 and 14 of the Winona Lakes community. The WWTP will discharge to the Bushkill Creek, a tributary to the Middle Delaware River Special Protection Waters. The facility is located in Middle Smithfield Township, Monroe County, Pennsylvania.

12. Artesian Water Company D-2003-22 CP-3. An application for approval of a ground water withdrawal project to supply up to 8.7 mg/30 days of water to the applicant's public water supply distribution system from new Well Thomas Cove 2 and to retain the existing withdrawal from all wells in 9 wellfields in the applicant's Southern Distribution System of 150 mg/30 days. The project is located in the Mt. Laurel Formation in the Appoquinimink River Watershed in New Castle County, Delaware.

13. Bear Creek Management Company, LLC D-2005-16-1. An application for approval to construct a new WWTP to serve the applicant's Bear Creek Ski Area and to operate an on-site iron abatement system. The 0.045 mgd treatment plant will discharge to sixteen holding tanks used for post treatment equalization prior to being pumped to a drip field at a maximum daily rate not to exceed 0.035 mgd. The facility is located in the Swabia Creek Watershed, a tributary to the Little Lehigh River in Long Swamp Township, Berks County, Pennsylvania. The on-site iron abatement system will include water quality monitoring, sediment sampling, removal of iron from the water column and removal of iron precipitate from the wetland substrate. The project is located in the drainage area to a section of the non-tidal Delaware River known as the Lower Delaware, which is classified as Special Protection Waters.

14. Delaware River Joint Toll Bridge Commission D-2006-7 CP-1. An application for approval of a bridge modification project, located in a recreational area which is included in the DRBC Comprehensive Plan. The U.S. Route 1 Toll Bridge connects the Borough of Morrisville, Bucks County, Pennsylvania with the City of Trenton, Mercer County, New Jersey and is located at the base of DRBC Water Quality Zone 1E. The bridge will be widened at a point where it passes over the Delaware Canal, formerly known as Roosevelt State Park.

15. Ingersoll-Rand Company D-2006-14-1. An application for the approval of an existing groundwater remediation discharge project located at the Ingersoll-Rand facility in Phillipsburg, New Jersey. The existing remediation system discharges approximately 0.090 mgd via Outfall 002 to Lopatcong Creek, which converges with the Delaware River at River Mile 182, within a reach classified as “Significant Resource Waters.” The facility is located in the Town of Phillipsburg and Lopatcong Township, Warren County, New Jersey.

16. Spring Ford Country Club D-2006-16-1. An application for approval of a ground and surface water withdrawal project to supply up to 11.2 mg/30 days of water to the applicant's golf course irrigation system from existing Well No. 1 and up to 21.6 mg/30 days from a pond on an unnamed tributary to Mingo Creek and to limit the existing withdrawal from all sources to 21.6 mg/30 days. The project is located in the Brunswick Formation in the Mingo Creek Watershed in Limerick Township, Montgomery County, Pennsylvania and is located in the Southeastern Pennsylvania Ground Water Protected Area.

17. Pocono Township D-2006-17 CP-1. An application for the construction of a new 2.0 mgd WWTP to accommodate flows from existing WWTPs and anticipated regional growth. The project includes the construction of a collection system for the Route 611 Corridor. The WWTP will discharge via an approximately 6-mile forcemain to the Brodhead Creek, a tributary to the Middle Delaware River Special Protection Waters. The facility will be located in Pocono Township, Monroe County, Pennsylvania.

In addition to the public hearing on the dockets listed above, the Commission's 1:30 p.m. business meeting will include: A public hearing and consideration of a resolution to re-authorize the Commission's Monitoring Advisory Committee and a resolution to adopt the 2007-2012 Water Resources Program.

The meeting will also include: adoption of the Minutes of the Commission's September 27, 2006 business meeting; announcements of upcoming advisory committee meetings and other events; a report by the Executive Director; a report by the Commission's General Counsel; and an opportunity for public dialogue.

Draft dockets scheduled for public hearing on December 12, 2006 will be posted on the Commission's Web site, http://www.drbc.net, where they can be accessed through the Notice of Commission Meeting and Public Hearing. Additional documents relating to the dockets and other items may be examined at the Commission's offices. Please contact William Muszynski at 609-883-9500, extension 221, with any docket-related questions.

Individuals in need of an accommodation as provided for in the Americans with Disabilities Act who wish to attend the informational meeting, conference session or hearings should contact the commission secretary directly at 609-883-9500 ext. 203 or through the Telecommunications Relay Services (TRS) at 711, to discuss how the Commission can accommodate your needs.

Dated: November 20, 2006.
Pamela M. Bush,
Commission Secretary.

[FR Doc. E6-19997 Filed 11-24-06; 8:45 am]

BILLING CODE 6360-01-P